FEDERAL RESERVE SYSTEM

Agency Information Collection Activities: Announcement of Board Approval Under Delegated Authority and Submission to OMB

AGENCY: Board of Governors of the Federal Reserve System.

SUMMARY: Background. Notice is hereby given of the final approval of proposed information collections by the Board of Governors of the Federal Reserve System (Board) under OMB delegated authority, per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer, Cynthia Ayouch, Division of Research and Statistics, Board of Governors of the Federal Reserve System, Washington, DC 20551 (202) 452-3829. Telecommunications Device for the Deaf (TDD) users may contact (202) 263-4869, Board of Governors of the Federal Reserve System, Washington, DC 20551.

OMB Desk Officer, Shagufta Ahmed, Office of Information and Regulatory Affairs, Office of Management and Budget, New Executive Office Building, Room 10235, 725 17th Street, NW.,Washington, DC 20503.

Final approval under OMB delegated authority of the extension for three years, without revision, of the following reports:

1. Report title: Notice of Branch Closure.

Agency form number: FR 4031.

OMB control number: 7100-0264.

Frequency: On Occasion.

Reporters: State member banks.

Estimated annual reporting hours: 224 hours.

Estimated average hours per response: Reporting requirements, 2 hours; Disclosure requirements, customer mailing, 0.75 hours and posted notice, 0.25 hours; and Recordkeeping requirements, 8 hours.

Number of respondents: Reporting requirements, 72; Disclosure requirements, customer mailing, 72 and posted notice, 72; and Recordkeeping requirements, 1.

General description of report: This information collection is mandatory pursuant to Section 42(a)(1) of the Federal Deposit Insurance Act (FDI Act) (12 U.S.C. 1831r-l(a)(1)). The Federal Reserve does not consider individual respondent data to be confidential. However, a state member bank may request confidential treatment pursuant to exemption b(4) of the Freedom of Information Act (5 U.S.C.552(b)(4)).

Abstract: The mandatory reporting, recordkeeping, and disclosure requirements regarding the closing of any branch of an insured depository institution are imposed by section 228 of the FDI Act of 1991. There is no reporting form associated with the reporting portion of this information collection; state member banks notify the Federal Reserve by letter prior to closing a branch. The Federal Reserve uses the information to fulfill its statutory obligation to supervise state member banks.

Current Actions: On January 22, 2013, the Federal Reserve published a notice in the Federal Register (78 FR 4410) requesting public comment for 60 days on the extension, without revision, of the FR 4031. The comment period for this notice expired on March 25, 2013. The Federal Reserve did not receive any comments.

2. Report title: Reports Related to Securities Issued by State Member Banks as Required by Regulation H.

Agency form number: Reg H-1.

OMB control number: 7100-0091.

Frequency: Annually, Quarterly, and on occasion.

Reporters: State member banks.

Estimated annual reporting hours: 352 hours.

Estimated average hours per response: 5.17 hours.

Number of respondents: 4.

General description of report: This information collection is mandatory pursuant to sections 12(i) and 23(a)(1) of the Securities Exchange Act of 1934 (15 U.S.C. 781(i) and 78w (a)(1)) and Regulation H (12 CFR 208.36). The information collected is not given confidential treatment. However, a state member bank make request that a report or document not be disclosed to the public and be held confidential by the Federal Reserve, (12 CFR 208.36(d). All such requests for confidential treatment will be determined on an ad hoc basis.

Abstract: The Federal Reserve's Regulation H requires certain state member banks to submit information relating to their securities to the Federal Reserve on the same forms that bank holding companies and nonbank entities use to submit similar information to the Securities and Exchange Commission. The information is primarily used for public disclosure and is available to the public upon request.

Current Actions: On January 22, 2013, the Federal Reserve published a notice in the Federal Register (78 FR 4410) requesting public comment for 60 days on the extension, without revision, of the Reg H-1. The comment period for this notice expired on March 25, 2013. The Federal Reserve did not receive any comments.

Final approval under OMB delegated authority of the extension for three years, with revision, of the following survey:

Report title: Senior Credit Officer Opinion Survey on Dealer Financing Terms.

Agency form number: FR 2034.

OMB control number: 7100-0325.

Frequency: Up to six times a year.

Reporters: U.S. banking institutions and U.S. branches and agencies of foreign banks.

Estimated annual reporting hours: 450 hours.

Estimated average hours per response: 3 hours.

Number of respondents: 25.

General description of report: This information collection would be voluntary (12 U.S.C. 225a, 248(a)(2), 1844(c), and 3105(c)(2)) and would be given confidential treatment (5 U.S.C. 552(b)(4)).

Abstract: This voluntary survey collects qualitative and limited quantitative information from senior credit officers at responding financial institutions on (1) stringency of credit terms, (2) credit availability and demand across the entire range of securities financing and over-the-counter derivatives transactions, and (3) the evolution of market conditions and conventions applicable to such activities up to six times a year. Given the Federal Reserve's interest in financial stability, the information this survey collects is critical to the monitoring of credit markets and capital market activity. Aggregate survey results are made available to the public on the Federal Reserve Board Web site.¹ In addition, selected aggregate survey results may be published in Federal Reserve Bulletin articles and in the annual Monetary Policy Report to the Congress.

¹ See http://www.federalreserve.gov/econresdata/releases/scoos.htm

Current Actions: On January 28, 2013, the Federal Reserve published a notice in the Federal Register (78 FR 5803) requesting public comment for 60 days on the extension, with revision, of the FR 2034. The comment period for this notice expired on March 29, 2013. The Federal Reserve did not receive any comments. The revisions will be implemented as proposed effective with the June 2013 survey.

Board of Governors of the Federal Reserve System, April 4, 2013.
Margaret McCloskey Shanks,
Deputy Secretary of the Board.

[FR Doc. 2013-08264 Filed 4-9-13; 8:45 am]

BILLING CODE 6210-01-P